DEPARTMENT OF ENERGY

State Energy Advisory Board

AGENCY: Office of Energy Efficiency and Renewable Energy, Department of Energy.

ACTION: Notice of cancellation of open teleconference.

SUMMARY: On April 19, 2017, the Department of Energy (DOE) published a notice of open teleconference scheduled for May 18, 2017, of the State Energy Advisory Board. This notice announces the cancellation of this meeting. The next regular meeting will be held at a date to be determined.

DATES: The meeting scheduled for May 18, 2017, announced in the April 19, 2017, issue of the Federal Register (FR Doc. 2017-07896, 82 FR 74), is cancelled.

FOR FURTHER INFORMATION CONTACT: Michael Li, Designated Federal Officer, Office of Energy Efficiency and Renewable Energy, U.S. Department of Energy, 1000 Independence Avenue SW., Washington, DC 20585; email: michael.li@ee.doe.gov or phone: 202-287-5718

Issued at Washington, DC on May 1, 2017.
LaTanya R. Butler,
Deputy Committee Management Officer.

[FR Doc. 2017-09058 Filed 5-4-17; 8:45 am]

BILLING CODE 6450-01-P